SMALL BUSINESS ADMINISTRATION

[Disaster Declaration #13950 and #13951]

Indiana Disaster Number IN-00054

AGENCY: U.S. Small Business Administration.

ACTION: Amendment 1.

SUMMARY: This is an amendment of the Presidential declaration of a major disaster for Public Assistance Only for the State of Indiana (FEMA-4173-DR), dated 04/22/2014.

Incident: Severe Winter Storm and Snowstorm.

Incident Period: 01/05/2014 through 01/09/2014.

Effective Date: 05/23/2014.

Physical Loan Application Deadline Date: 06/23/2014.

Economic Injury (EIDL) Loan Application Deadline Date: 01/22/2015.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the President's major disaster declaration for Private Non-Profit organizations in the State of INDIANA, dated 04/22/2014, is hereby amended to include the following areas as adversely affected by the disaster.

Primary Counties:

Blackford; Clinton; Fulton; Hamilton; Johnson; Lagrange; Marion; Montgomery; Vanderburgh.

All other information in the original declaration remains unchanged.

(Catalog of Federal Domestic Assistance Numbers 59002 and 59008)

James E. Rivera,
Associate Administrator, for Disaster Assistance.

[FR Doc. 2014-12752 Filed 6-2-14; 8:45 am]

BILLING CODE 8025-01-P